DEPARTMENT OF COMMERCE

International Trade Administration

[A-570-890]

Wooden Bedroom Furniture From the People's Republic of China: Final Results of Antidumping Duty Administrative Review and New Shipper Review; 2012

AGENCY: Enforcement and Compliance, International Trade Administration, Department of Commerce.

SUMMARY: On February 26, 2014, the Department of Commerce (the “Department”) published the preliminary results of the eighth administrative review (“AR”) and new shipper review (“NSR”) of wooden bedroom furniture from the People's Republic of China (“PRC”) covering the period of review (“POR”) January 1, 2012 through December 31, 2012.¹ We gave interested parties an opportunity to comment on the Preliminary Results. After reviewing interested parties' comments, we made certain changes to our dumping margin calculations for the only participating mandatory respondent in the AR, Hualing Furniture (China) Co., Ltd., Tony House Manufacture (China) Co., Ltd., Buysell Investments Ltd., and Tony House Industries Co., Ltd. (collectively “Tony House Group”) and the new shipper Dongguan Chengcheng Co., Ltd. (“Dongguan Chengcheng”). For these final results of the AR, we continue to find that 46 companies, including two of the three mandatory respondents,² failed to establish eligibility for separate-rate status and, thus, we treated these companies as part of the PRC-wide entity. We also continue to find that 12 companies, which made no shipments of subject merchandise during the POR and timely filed certifications to that effect, will retain their separate-rate status. The final antidumping duty margins for these reviews are listed below in the “Final Results of the 2012 Administrative Review” and “Final Results of the 2012 New Shipper Review” sections of this notice.

¹ See Wooden Bedroom Furniture From the People's Republic of China: Preliminary Results of Antidumping Duty Administrative Review and New Shipper Reviews; 2012, 79 FR 10768 (February 26, 2014) (“Preliminary Results”) and accompanying “Decision Memorandum for Preliminary Results of Antidumping Duty Administrative and New Shipper Review: Wooden Bedroom Furniture from the People's Republic of China” (“Preliminary Decision Memorandum”).

² Those two mandatory respondents are Marvin Furniture (Shanghai) Co., Ltd. (“Marvin Furniture”), and Foliot Furniture Inc./Meubles Foliot Inc. (“Foliot”), Foliot Furniture Corporation, and Foliot Furniture Pacific Inc. (collectively, “the Foliot Group”).

DATES: Effective Dates: September 2, 2014.

FOR FURTHER INFORMATION CONTACT: Patrick O'Connor, AD/CVD Operations, Office IV, Enforcement and Compliance, International Trade Administration, U.S. Department of Commerce, 14th Street and Constitution Avenue NW., Washington, DC 20230; telephone: (202) 482-0989.

SUPPLEMENTARY INFORMATION:

Background

On February 26, 2014, the Department published its Preliminary Results of the AR and NSR of the antidumping order on wooden bedroom furniture from the PRC covering the period January 1, 2012, through December 31, 2012. In March 2014, interested parties timely submitted surrogate value information in the AR and surrogate value and rebuttal surrogate value information in the NSR. In April 2014, interested parties submitted briefs and rebuttal briefs in both the AR and the NSR.

Analysis of the Comments Received

All issues raised in the case briefs are addressed in the memorandum from Gary Taverman, Senior Advisor for Antidumping and Countervailing Duty Operations, to Paul Piquado, Assistant Secretary for Enforcement and Compliance, “Wooden Bedroom Furniture from the People's Republic of China: Issues and Decision Memorandum for the Final Results of the 2012 Administrative Review and New Shipper Review” (“I&D Memorandum”), which is dated concurrently with, and hereby adopted by, this notice. A list of the issues addressed in the I&D Memorandum is appended to this notice. The I&D Memorandum is a public document and is on file electronically via Enforcement and Compliance's Antidumping and Countervailing Duty Centralized Electronic Services System (“IA ACCESS”). Access to IA ACCESS is available to registered users at http://iaaccess.trade.gov and in the Central Records Unit of the main Commerce Building, Room 7046. In addition, a complete version of the I&D Memorandum is accessible on the Department's Web site at http://www.trade.gov/enforcement/. The signed I&D Memorandum and electronic version of the I&D Memorandum are identical in content.

Changes Since the Preliminary Results

For the AR, we corrected errors in the financial ratio calculations that we used to calculate the Tony House Group's antidumping duty margin. For the NSR, we selected new surrogate values for multi-density fiberboard and paint, used different financial statements to calculate the financial ratios that we used to calculate Dongguan Chengcheng's antidumping duty margin, and revised the calculation for brokerage and handling.

Scope of the Order

The product covered by the order is wooden bedroom furniture, subject to certain exceptions. Imports of subject merchandise are currently classified under the Harmonized Tariff Schedule of the United States (“HTSUS”) subheadings: 9403.50.9042, 9403.50.9045, 9403.50.9080, 9403.50.9041, 9403.60.8081, 9403.20.0018, 9403.90.8041, 7009.92.1000 or 7009.92.5000. Although the HTSUS subheadings are provided for convenience and customs purposes, the written product description in the Order remains dispositive.³

³ For a complete description of the scope of the order, see I&D Memorandum.

Final Determination of No Shipments

As noted in the Preliminary Decision Memorandum, we determined that the following companies did not have any reviewable entries during the POR: (1) Clearwise Company Limited (“Clearwise”); (2) COE Limited (“COE”); (3) Dongguan Singways Furniture Co., Ltd. (“Singways”); (4) Dongguan Yujia Furniture Co., Ltd. (“Dongguan Yujia”); (5) Eurosa (Kunshan) Co., Ltd. (“Eurosa”); (6) Golden Well International (HK) Limited (“Golden Well”); (7) Hangzhou Cadman Trading Co, Ltd. (“Cadman”); (8) Sen Yeong International Co., Ltd.; Sheh Hau International Trading Ltd. (“Sen Yeong”); (9) Shenyang Shining Dongxing Furniture Co., Ltd. (“Shenyang Shining”); (10) Strongson Furniture (Shenzhen) Co., Ltd.; Strongson Furniture Co., Ltd.; Strongson (HK) Co. (“Strongson”); (11) Yeh Brothers World Trade Inc. (“Yeh Brothers”); and (12) Zhejiang Tianyi Scientific & Educational Equipment Co., Ltd. (“Zhejiang Tianyi”).⁴ No parties commented on this issue, and we have not received any information that contradicts these companies' claims of no-shipments. Thus, we continue to find that these companies did not have entries of subject merchandise during the POR. We will issue instructions to U.S. Customs and Border Protection (“CBP”) for any suspended entries under these companies' antidumping duty case numbers as noted below.

⁴ See Preliminary Results, 79 FR 10768 and accompanying Preliminary Decision Memorandum at “Preliminary Determination of No Shipments.” We note that in the Preliminary Decision Memorandum, we incorrectly identified Strongson by the following company names: “Strongson Furniture Co., Ltd., Strongson (HK) Company and Strongson (HK) Company.” We should instead have listed the following company names for Strongson: “Strongson Furniture (Shenzhen) Co., Ltd.; Strongson Furniture Co., Ltd.; and Strongson (HK) Co.” See Wooden Bedroom Furniture From the People's Republic of China: Initiation of Administrative Review, 78 FR 13626 (February 28, 2013). We will update our liquidation instructions for Strongson with the correct company names.

Final Results of the 2012 Administrative Review

The Department has determined that the following dumping margin exists for the period January 1, 2012, through December 31, 2012:

Exporter | Weighted- average margin (percent)
Hualing Furniture (China) Co., Ltd.; Tony House Manufacture (China) Co., Ltd.; Buysell Investments Ltd.; and Tony House Industries Co., Ltd | 3.25
PRC-wide Entity ⁵ | 216.01

Final Results of the 2012 New Shipper Review

The Department has determined that the following dumping margin exists for the exporter-producer combination listed below for the period January 1, 2012, through December 31, 2012:

⁵ The PRC-wide entity includes, among other companies: (1) Marvin Furniture (Shanghai) Co., Ltd.; (2) Foliot Furniture Inc., aka Meubles Foliot Inc.; (3) Chuan Fa Furniture Factory; (4) Dalian Guangming Furniture Co., Ltd.; (5) Dalian Pretty Home Furniture a.k.a. Dalian Pretty Home Furniture Co., Ltd.; (6) Dongguan Cambridge Furniture Co., Ltd., Glory Oceanic Co., Ltd.; (7) Dongguan Dihao Furniture Co., Ltd.; (8) Dongguan Great Reputation Furniture Co., Ltd.; (9) Dongguan Kin Feng Furniture Co., Ltd.; (10) Dongguan Liaobushangdun Huada Furniture Factory, Great Rich (HK) Enterprises Co., Ltd.; (11) Dongguan Lung Dong Furniture Co., Ltd., Dongguan Dong He Furniture Co., Ltd.; (12) Dongguan Mingsheng Furniture Co., Ltd.; (13) Dongguan Sunshine Furniture Co., Ltd.; (14) Dongguan Yihaiwei Furniture Limited; (15) Fleetwood Fine Furniture LP.; (16) Fortune Furniture Ltd., Dongguan Fortune Furniture Ltd.; (17) Fuijian Lianfu Forestry Co, Ltd. (a.k.a. Fujian Wonder Pacific Inc.), Fuzhou Huan Mei Furniture Co., Ltd., Jiangsu Dare Furniture Co., Ltd.; (18) Gaomi Yatai Wooden Ware Co., Ltd., Team Prospect International Limited, Money Gain International Co.; (19) Garri Furniture (Dong Guan) Co., Ltd., Molabile International, Inc., Weei Geo Enterprise Co., Ltd.; (20) Guangdong New Four Seas Furniture Manufacturing Ltd.; (21) Guangzhou Lucky Furniture Co., Ltd.; (22) Jardine Enterprise, Ltd.; (23) Langfang Tiancheng Furniture Co., Ltd.; (24) Longkou Huangshan Furniture Factory; (25) Longrange Furniture Co., Ltd.; (26) Macau Youcheng Trading Co./Zhongshan Youcheng Wooden Arts & Crafts Co., Ltd.; (27) Nanhai Baiyi Woodwork Co., Ltd.; (28) Nanjing Nanmu Furniture Co., Ltd.; (29) Po Ying Industrial Co.; (30) Qingdao Beiyuan-Shengli Furniture Co., Ltd., Qingdao Beiyuan Industry Trading Co., Ltd.; (31) Qingdao Shengchang Wooden Co., Ltd.; (32) Red Apple Trading Co., Ltd., Shenzhen Tiancheng Furniture Co., Ltd., Winbuild Industrial Ltd., Red Apple Furniture Co., Ltd.; (33) Season Furniture Manufacturing Co., Season Industrial Development Co.; (34) Shenzhen Shen Long Hang Industry Co., Ltd.; (35) Shenzhen Xingli Furniture Co., Ltd.; (36) Shun Feng Furniture Co., Ltd.; (37) Songgang Jasonwood Furniture Factory, Jasonwood Industrial Co., Ltd. S.A.; (38) Teamway Furniture (Dong Guan) Ltd., Brittomart Inc.; (39) Tianjin First Wood Co., Ltd.; (40) Tianjin Fortune Furniture Co., Ltd.; (41) Tianjin Phu Shing Woodwork Enterprise Co., Ltd.; (42) Transworld (Zhang Zhou) Furniture Co., Ltd.; (43) Tube-Smith Enterprise (Zhangzhou) Co., Ltd., Tube-Smith Enterprise (Haimen) Co., Ltd., Billionworth Enterprises Ltd.; (44) Wanhengtong Nueevder (Furniture) Manufacture Co., Ltd., Dongguan Wanhengtong Industry Co., Ltd.; (45) Winmost Enterprises Limited; and (46) Xilinmen Furniture Co., Ltd.

Exporter | Producer | Weighted-average dumping margin (percent)
Dongguan Chengcheng Group Co., Ltd | Dongguan Chengcheng Group Co., Ltd | 0.00

Assessment

Pursuant to section 751(a)(2)(C) of the Tariff Act of 1930, as amended (the “Act”), and 19 CFR 351.212(b), the Department has determined, and CBP shall assess, antidumping duties on all appropriate entries of subject merchandise and deposits of estimated duties, where applicable, in accordance with the final results of these reviews. The Department intends to issue assessment instructions to CBP 15 days after the publication date of these final results of reviews.

For each individually examined respondent in these reviews whose weighted-average dumping margin in the final results of review is above de minimis (i.e., 0.05 percent), the Department calculated importer (or customer)-specific assessment rates, in accordance with 19 CFR 351.212(b)(1).⁶ Where the respondent reported reliable entered values, we calculated importer (or customer)-specific ad valorem rates by aggregating the dumping margins calculated for all U.S. sales to each importer (or customer) and dividing this amount by the total entered value of the sales to each importer (or customer).⁷ Where the Department calculated a weighted-average dumping margin by dividing the total amount of dumping for reviewed sales to that party by the total sales quantity associated with those transactions, the Department will direct CBP to assess importer (or customer)-specific assessment rates based on the resulting per-unit rates.⁸ Where an importer (or customer-) specific ad valorem or per-unit rate is greater than de minimis, the Department will instruct CBP to collect the appropriate duties at the time of liquidation. Where either the respondent's weighted average dumping margin is zero or de minimis, or an importer (or customer-) specific ad valorem or per-unit rate is zero or de minimis, the Department will instruct CBP to liquidate appropriate entries without regard to antidumping duties.⁹

⁶ See Antidumping Proceedings: Calculation of the Weighted Average Dumping Margin and Assessment Rate in Certain Antidumping Proceedings: Final Modification, 77FR 8101 (February 14, 2012) (“Final Modification”).

⁷ See 19 CFR 351.212(b)(1).

⁸ Id.

⁹ See Final Modification.

In 2011, the Department announced a refinement to its assessment practice in NME cases.¹⁰ Pursuant to this refinement in practice, for entries that were not reported in the U.S. sales databases submitted by companies individually examined during these reviews, the Department will instruct CBP to liquidate such entries at the NME-wide rate. In addition, if the Department determines that an exporter under review had no shipments of the subject merchandise, any suspended entries that entered under that exporter's case number (i.e., at that exporter's rate) will be liquidated at the NME-wide rate.¹¹

¹⁰ See Non-Market Economy Antidumping Proceedings: Assessment of Antidumping Duties, 76 FR 65694 (October 24, 2011).

¹¹ Id.

Cash Deposit Requirements

The following cash deposit requirements will be effective upon publication of the final results of these reviews for all shipments of the subject merchandise entered, or withdrawn from warehouse, for consumption on or after the publication date, as provided for by section 751(a)(2)(C) of the Act: (1) For the company listed in the “Final Results of the 2012 Administrative Review” section of this notice above and the exporter-producer combination listed in the “Final Results of the 2012 New Shipper Review” section of this notice above, the cash deposit rate will be the rate listed above for the company, except if the rate is zero or de minimis, then no cash deposit will be required for that company; (2) for Clearwise; COE; Singways; Dongguan Yujia; Eurosa; Golden Well; Cadman; Sen Yeong; Shenyang Shining; Strongson; Yeh Brothers; and Zhejiang Tianyi, which had no shipments, the cash deposit rate will remain unchanged from the rate assigned to these companies in the most recently completed review of the companies; (3) for previously investigated or reviewed PRC and non-PRC exporters who are not under review in this segment of the proceeding but who have separate rates, the cash deposit rate will continue to be the exporter-specific rate published for the most recent period; (4) for all PRC exporters of subject merchandise which have not been found to be entitled to a separate rate, including Marvin Furniture, Foliot Furniture Inc., aka Meubles Foliot Inc. and the forty four other companies listed in footnote 5 above, the cash deposit rate will be the PRC-wide rate of 216.01 percent; and (5) for all non-PRC exporters of subject merchandise which have not received their own rate, the cash deposit rate will be the rate applicable to the PRC exporter(s) that supplied that non-PRC exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

These final results of reviews are issued and published in accordance with sections 751(a)(1), 751(a)(2)(B), 777(i) of the Act and 19 CFR 351.213, 351.214.

Dated: August 25, 2014.
Paul Piquado,
Assistant Secretary for Enforcement and Compliance.

Appendix

Summary

Background

Scope of the Order

Discussion of the Issues

Comment 1: Whether There Are Errors in the Financial Ratio Calculations in the Administrative Review

Comment 2: Whether Marvin Furniture has Demonstrated Eligibility for Separate Rate Status

Comment 3: Whether Entries of Shanghai Maoji's Merchandise Should Be Liquidated As Entered

Comment 4: The Appropriate Dumping Margin to Apply to Marvin Furniture and Shanghai Maoji as Part of the PRC-Wide Entity

Comment 5: Whether the Liquidation Instructions for the Administrative Review Should be Revised

Comment 6: Treatment of Labor Costs in Surrogate Financial Ratios

Comment 7: The Appropriate Surrogate Value For MDF

Comment 8: The Appropriate Surrogate Value For Brokerage and Handling

Comment 9: The Appropriate Surrogate Value For Paint

Comment 10: The Appropriate Surrogate Value For Electricity

Comment 11: The Appropriate Surrogate Financial Statements for the NSR

Recommendation

[FR Doc. 2014-20827 Filed 8-29-14; 8:45 am]

BILLING CODE 3510-DS-P